DEPARTMENT OF ENERGY

Federal Energy Regulatory Commission

[Project No. 2744-000]

North American Hydro, Inc.; Notice of Meeting To Address the Potential for Early Relicensing of the Park Mill Project

September 25, 2003.

On July 5, 2002, the Commission's Dispute Resolution Service (DRS) issued a notice to convene interested parties on unresolved issues related to fish entrainment and mortality resulting from the outcome of a two-year feasibility study on fish protection required by a Commission order issued in June 24, 1997. The Menominee-Park Mill Project is located on the Menominee River in Marinette County, Wisconsin and Menominee County, Michigan. At the convening session on July 25, 2002, the DRS explored whether the parties would agree to an Alternative Dispute Resolution (ADR) process to resolve the fishery-related issues through assisted negotiations. North American Hydro, Inc. (licensee), federal and state agencies and non-governmental organizations (NGOs) who attended the July meeting agreed to an ADR process to try to resolve the fishery-related issues. Between July 25, 2002 and the present, the parties have been working toward a settlement on the fishery-related issues in mediated discussions under the Administrative Dispute Resolution Act (Pub. L. 104-320, as amended).

The existing license expires in 2015. The parties in the ADR process are exploring the option of accelerating the relicensing of the Park Mill project. An application for an accelerated license has not been filed at this time. The purpose of the up-coming meeting is to explore the concerns and interests of the stakeholders not involved in the ADR process. Formal scoping meetings would be held should the licensee file an application to relicense the project and the Commission issues a formal notice to accelerate the license.

FERC staff will conduct one daytime meeting and one evening meeting. The daytime meeting will focus on resource agency and NGO's concerns and interests. The evening meeting will be held primarily for input from the public on its concerns and interests. All interested individuals, organizations, and agencies are invited to attend one or both of the meetings to assist the staff in addressing the option noted above. The time and locations of these meetings are as follows:

Daytime Scoping Meeting—Agency-Related

Date: Monday, October 27, 2003.

Time: 2 p.m.

Place: Wisconsin Department of Natural Resources.

Address: 101 North Ogden Street, Peshtigo, WI.

Evening Public Scoping Meeting

Date: Monday, October 27, 2003.

Time: 7 p.m.-9 p.m.

Place: Same location noted above.

If you have further questions, please contact Deborah Osborne at 202-502-8831.

Linda Mitry,
Acting Secretary.

[FR Doc. 03-24887 Filed 10-1-03; 8:45 am]

BILLING CODE 6717-01-P